DEPARTMENT OF COMMERCE

International Trade Administration

[A-570-863]

Honey From the People's Republic of China: Rescission of Antidumping Duty Administrative Review; 2014-2015

AGENCY: Enforcement and Compliance, International Trade Administration, Department of Commerce.

SUMMARY: The Department of Commerce (“the Department”) is rescinding the administrative review of the antidumping duty order on honey from the People's Republic of China (“PRC”) for December 1, 2014 through November 30, 2015.

DATES: Effective Date: April 14, 2016.

FOR FURTHER INFORMATION CONTACT: Kabir Archuletta, AD/CVD Operations, Office V, Enforcement and Compliance, International Trade Administration, Department of Commerce, 14th Street and Constitution Avenue NW., Washington, DC 20230; telephone: (202) 482-2593.

SUPPLEMENTARY INFORMATION:

Background

On February 9, 2016, based on a timely request for review on behalf of the American Honey Producers Association and Sioux Honey Association (collectively, “Petitioners”),¹ the Department published in the Federal Register a notice of initiation of an administrative review of the antidumping duty order on honey from the PRC covering the period December 1, 2014, through November 30, 2015.² The review covers three companies: Wuhu Haoyikuai Imp & Emp, Shanghai Sunbeauty Trading, and Shanghai Sha Mei Trade Co., Ltd.³ On March 14, 2016, Petitioners withdrew their requests for an administrative review on all three companies listed in the Initiation Notice.⁴ No other party requested a review of these companies or any other exporters of subject merchandise.

¹ See Letter to the Secretary of Commerce from the American Honey Producers Association and Sioux Honey Association, “Honey from the People's Republic of China: Request for Administrative Review” (December 31, 2015).

² See Initiation of Antidumping and Countervailing Duty Administrative Reviews, 81 FR 6832 (February 9, 2016) (“Initiation Notice”).

³ Id.

⁴ See Letter to the Secretary of Commerce from Petitioners “Honey from the People's Republic of China: Petitioners Withdrawal of Requests for Administrative Review” (March 14, 2016).

Rescission of Review

Pursuant to 19 CFR 351.213(d)(1), the Department will rescind an administrative review, in whole or in part, if the party that requested the review withdraws its request within 90 days of the publication of the notice of initiation of the requested review. In this case, Petitioners timely withdrew their request of all three companies by the 90-day deadline, and no other party requested an administrative review of the antidumping duty order. As a result, pursuant to 19 CFR 351.213(d)(1), we are rescinding the administrative review of honey from the PRC for the period December 1, 2014, through November 30, 2015, in its entirety.

Assessment

The Department will instruct U.S. Customs and Border Protection (“CBP”) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice in the Federal Register, if appropriate.⁵

⁵ The Department confirmed with interested parties that “Shanghai Sunbeauty Trading” is the same company as “Shanghai Sunbeauty Trading Co., Ltd.,” which is under review in an ongoing new shipper review (see Honey from the People's Republic of China: Initiation of Antidumping Duty New Shipper Review, 81 FR 5710 (February 3, 2016); see also Letter to the Secretary of Commerce from Petitioners “Honey from the People's Republic of China: Response to the Department's February 25, 2016 Letter” (February 29, 2016)). Accordingly, we will instruct CBP to continue to suspend liquidation of entries exported by Shanghai Sunbeauty Trading Co., Ltd., until the conclusion of the new shipper review.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: April 6, 2016.
Christian Marsh,
Deputy Assistant Secretary for Antidumping and Countervailing Duty Operations.

[FR Doc. 2016-08631 Filed 4-13-16; 8:45 am]

BILLING CODE 3510-DS-P